DEPARTMENT OF TRANSPORTATION

Federal Railroad Administration

[Docket No. FRA-2010-0060]

Norfolk Southern Railway's Request To Operate During a Temporary Outage of Its Positive Train Control System

AGENCY: Federal Railroad Administration (FRA), Department of Transportation (DOT).

ACTION: Notice of availability, request for comments, and notice of planned decision.

SUMMARY: This document provides the public with notice that, on August 28, 2023, Norfolk Southern Railway (NS) submitted a request for amendment (RFA) to its FRA-certified positive train control (PTC) system. On August 28, 2023, NS experienced a system-wide outage of its PTC back office, temporarily impacting the operations of NS and its tenant railroads. NS is seeking FRA's authorization under FRA's PTC regulations to continue operations, with certain restrictions, while NS's PTC system is temporarily disabled.

DATES: FRA will review comments received by September 21, 2023. FRA may consider comments received after that date to the extent practicable.

ADDRESSES:

Comments: Comments may be submitted by going to https://www.regulations.gov and following the online instructions for submitting comments.

Instructions: All submissions must include the agency name and the applicable docket number. The relevant PTC docket number for this host railroad is Docket No. FRA-2010-0060. For convenience, all active PTC dockets are hyperlinked on FRA's website at https://railroads.dot.gov/train-control/ptc/ptc-annual-and-quarterly-reports. All comments received will be posted without change to https://www.regulations.gov; this includes any personal information.

FOR FURTHER INFORMATION CONTACT: Gabe Neal, Staff Director, Signal, Train Control, and Crossings Division, telephone: 816-516-7168, email: Gabe.Neal@dot.gov.

SUPPLEMENTARY INFORMATION: In general, Title 49 United States Code (U.S.C.) Section 20157(h) requires FRA to certify that a host railroad's PTC system complies with Title 49 Code of Federal Regulations (CFR) part 236, subpart I, before the technology may be operated in revenue service. Before making certain changes to an FRA-certified PTC system or the associated FRA-approved PTC Safety Plan or disabling the PTC system, a host railroad must submit, and obtain FRA's approval of, an RFA under 49 CFR 236.1021.

Under 49 CFR 236.1021(e), FRA's regulations provide that FRA will publish a notice in the Federal Register and invite public comment in accordance with 49 CFR part 211, if an RFA includes a request for approval of a material modification or discontinuance of a signal or train control system. Accordingly, this notice informs the public that, on August 28, 2023, NS submitted an RFA to its PTC system under 49 CFR 236.1021(m), and that RFA is available in Docket No. FRA-2010-0060. Interested parties are invited to comment on NS's RFA by submitting written comments or data.

FRA typically invites the public to comment on such RFAs for a period of 20 days, as FRA must issue a decision to the railroad within 45 days of receipt of the RFA. 49 CFR 236.1021(e), (m)(3)(i). However, FRA's PTC regulations, at § 236.1021(m)(3)(ii), recognize that FRA may issue a decision before the standard 45-day decision deadline in emergencies or under other circumstances necessitating immediate approval. Given the circumstances and impact to NS's entire network, FRA intends to issue a decision immediately, subject to conditions and other limitation to ensure rail safety. FRA will review and consider any comments received during the comment period, even after issuing a decision.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC
Carolyn R. Hayward-Williams,
Director, Office of Railroad Systems and Technology.

[FR Doc. 2023-18996 Filed 8-31-23; 8:45 am]

BILLING CODE 4910-06-P